DEPARTMENT OF ENERGY

Federal Energy Regulatory Commission

Combined Notice of Filings #1

Take notice that the Commission received the following electric rate filings:

Docket Numbers: ER19-1525-001.

Applicants: AEP Texas Inc.

Description: Compliance filing: Compliance: AEPTX-Taylor EC-Golden Spread EC Interconnection Agr 3rd Amended to be effective 3/13/2019.

Filed Date: 2/6/20.

Accession Number: 20200206-5149.

Comments Due: 5 p.m. ET 2/27/20.

Docket Numbers: ER19-1959-001.

Applicants: Avista Corporation.

Description: Compliance filing: Avista Corp OATT Order 845/845A Compliance Filing to be effective 2/10/2020.

Filed Date: 2/7/20.

Accession Number: 20200207-5000.

Comments Due: 5 p.m. ET 2/28/20.

Docket Numbers: ER20-370-000.

Applicants: City Power & Gas, LLC.

Description: Report Filing: Refund Report (ER20-370-) to be effective N/A.

Filed Date: 2/6/20.

Accession Number: 20200206-5148.

Comments Due: 5 p.m. ET 2/27/20.

Docket Numbers: ER20-378-001.

Applicants: Pacific Gas and Electric Company.

Description: Tariff Amendment: Response to Deficiency Letter for CCSF 11-14-19 Unexecuted Agreements to be effective 1/13/2020.

Filed Date: 2/7/20.

Accession Number: 20200207-5071.

Comments Due: 5 p.m. ET 2/28/20.

Docket Numbers: ER20-608-001.

Applicants: Bear Valley Electric Service, Inc.

Description: Tariff Amendment: Amendment to MBR Application and Request for Waivers and Blanket Authorizations to be effective 1/1/2020.

Filed Date: 2/7/20.

Accession Number: 20200207-5065.

Comments Due: 5 p.m. ET 2/28/20.

Docket Numbers: ER20-611-001.

Applicants: Algonquin SKIC 20 Solar, LLC.

Description: Tariff Amendment: Shared Facilities Agreement—Amended to be effective 12/18/2019.

Filed Date: 2/7/20.

Accession Number: 20200207-5004.

Comments Due: 5 p.m. ET 2/28/20.

Docket Numbers: ER20-625-001.

Applicants: Algonquin SKIC 10 Solar, LLC.

Description: Tariff Amendment: Certificate of Concurrence—Amended to be effective 12/18/2019.

Filed Date: 2/7/20.

Accession Number: 20200207-5003.

Comments Due: 5 p.m. ET 2/28/20.

Docket Numbers: ER20-663-001.

Applicants: New York Independent System Operator, Inc.

Description: Tariff Amendment: Supplement to the 12/20/19 Competitive Entry Exemption 205 filing to be effective 4/8/2020.

Filed Date: 2/7/20.

Accession Number: 20200207-5018.

Comments Due: 5 p.m. ET 2/28/20.

Docket Numbers: ER20-963-000.

Applicants: Black Hills Colorado Electric, LLC.

Description: § 205(d) Rate Filing: Joint Dispatch Agreement Concurrence Filing to be effective 4/5/2020.

Filed Date: 2/6/20.

Accession Number: 20200206-5145.

Comments Due: 5 p.m. ET 2/27/20.

Docket Numbers: ER20-964-000.

Applicants: PJM Interconnection, L.L.C.

Description: § 205(d) Rate Filing: Rev to Sch. 12 of OA to reflect termination of Innovari Market Solution, LLC to be effective 3/4/2020.

Filed Date: 2/7/20.

Accession Number: 20200207-5092.

Comments Due: 5 p.m. ET 2/28/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2020.
Kimberly D. Bose,
Secretary.

[FR Doc. 2020-02901 Filed 2-12-20; 8:45 am]

BILLING CODE 6717-01-P